DEPARTMENT OF ENERGY

Federal Energy Regulatory Commission

[Project No. 12557-001]

SBER Royal Mills, LLC; Notice of Application Accepted for Filing; Soliciting Motions To Intervene and Protests; Ready for Environmental Analysis; Soliciting Comments, Terms and Conditions, Recommendations, and Prescriptions; Establishing an Expedited Schedule; and Waiving Scoping

April 25, 2008.

Take notice that the following hydroelectric application has been filed with the Commission and is available for public inspection.

a. Type of Application: Exemption From Licensing.

b. Project No.: P-12557-001.

c. Date Filed: December 12, 2007.

d. Applicant: SBER Royal Mills, LLC.

e. Name of Project: Royal Mills Hydroelectric Project.

f. Location: On the South Branch Pawtuxet River, in the town of West Warwick, Kent County, Rhode Island. This project does not occupy federal lands.

g. Filed Pursuant to: Public Utilities Regulatory Policies Act of 1978, 16 U.S.C. 2705, 2708.

h. Applicant Contact: Quentin Chafee, Development Director, Struever Bros. Eccles & Rouse, Inc., 166 Valley Street, Building 6M, Suite 103, Providence, RI 02909, (401) 574-2100, Q.Chafee@sber.com.

i. FERC Contact: Steve Kartalia, Stephen.Kartalia@ferc.gov, (202) 502-6131.

j. Deadline for filing motions to intervene and protests, comments, terms and conditions, recommendations, and prescriptions: 60 days from the issuance of this notice. All reply comments must be filed with the Commission within 105 days from the date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, terms and conditions, recommendations, and prescriptions may be filed electronically via the Internet in lieu of paper. The Commission strongly encourages electronic filings. See 18 CFR 385.2001(a)(1)(iii) and the instructions on the Commission's web site (http://www.ferc.gov) under the “eFiling” link.

k. This application has been accepted for filing and is now ready for environmental analysis.

l. Project Description: The Royal Mills Hydroelectric Project would consist of the following facilities: (1) An existing 110-foot-long by 21-foot-high granite block dam; (2) an existing 3.8-acre reservoir; (3) an existing 150-foot-long by 40-foot-wide power canal; (4) an existing powerhouse containing one single new cross-flow turbine generating unit with total installed generating capacity of 225 kilowatts (kW); and (5) appurtenant facilities. The restored project would have an estimated average annual generation of 1,000,000 kilowatt-hours. The dam and existing project facilities are owned by the applicant.

m. A copy of the application is on file with the Commission and is available for public inspection. This filing may also be viewed on the web at http://www.ferc.gov using the “eLibrary” link. Enter the docket number, excluding the last three digits in the docket number filed to access the documents. For assistance, please contact FERC Online Support at FERCOnlineSupport@ferc.gov or toll free at (866) 208-3676 or for TTY, contact (202) 502-8659. A copy is also available for inspection and reproduction at the address in item h above.

Register online at http://www.ferc.gov/docs-filing/esubscription.asp to be notified via e-mail of new filings and issuances related to this or other pending projects. For assistance, contact FERC Online Support.

n. Procedural schedule and final amendments: We intend to substitute the pre-filing and post-filing consultation that has occurred on this project for our standard National Environmental Policy Act scoping process. Commission staff propose to issue a single environmental assessment rather than issue a draft and final EA. Staff intend to give at least 30 days for entities to comment on the EA, and will consider all comments received on the EA before final action is taken on the exemption application.

Final amendments to the application must be filed with the Commission no later than 30 days from the issuance date of this notice.

Kimberly D. Bose,
Secretary.

[FR Doc. E8-9779 Filed 5-2-08; 8:45 am]

BILLING CODE 6717-01-P